DEPARTMENT OF LABOR

Employment and Training Administration

[TA-W-63,240]

Bartlett Corporation, Muncie, IN; Notice of Termination of Investigation

Pursuant to Section 221 of the Trade Act of 1974, as amended, an investigation was initiated on April 24, 2008 in response to a worker petition filed by a company official on behalf of workers at Bartlett Corporation, Muncie, Indiana.

The petitioner has requested that the petition be withdrawn. Consequently, the investigation has been terminated.

Signed at Washington, DC this 2nd day of May 2008.
Elliott S. Kushner,
Certifying Officer, Division of Trade Adjustment Assistance.

[FR Doc. E8-10587 Filed 5-12-08; 8:45 am]

BILLING CODE 4510-FN-P